SMALL BUSINESS ADMINISTRATION

[License No. 01/01-0424]

Brookside Mezzanine Fund III, L.P.; Notice Seeking Exemption Under Section 312 of the Small Business Investment Act, Conflicts of Interest

Notice is hereby given that Brookside Mezzanine Fund III, L.P., 201 Tresser Boulevard, Suite 330, Stamford, CT 06901, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Brookside Mezzanine Fund III, L.P. proposes to provide debt and equity financing to Media Source, Inc., 7858 Industrial Pkwy, Plain City, OH 43064. The proceeds will be used to finance the acquisition of Media Source, Inc.

The financing is brought within the scope of § 107.730(a)(4) of the Regulations because Brookside Mezzanine Fund II, L.P., an Associate of Brookside Mezzanine Fund III, L.P., will receive part of the proceeds from the Media Source, Inc. financing in satisfaction of the Media Source, Inc. obligation to Brookside Mezzanine Fund II, L.P. and therefore this transaction is considered a financing to an Associate requiring SBA prior written exemption.

Notice is hereby given that any interested person may submit written comments on the transaction, within fifteen days of the date of this publication, to the Associate Administrator for Investment, U.S. Small Business Administration, 409 Third Street SW., Washington, DC 20416.

Javier E. Saade,
Associate Administrator, Office of Investment and Innovation.

[FR Doc. 2014-15495 Filed 7-1-14; 8:45 am]

BILLING CODE 8025-01-P